DEPARTMENT OF TRANSPORTATION

Federal Railroad Administration

[Docket Number FRA-2013-0136]

Notice of Joint Application for Approval of Discontinuance or Modification of a Railroad Signal System

In accordance with Part 235 of Title 49 Code of Federal Regulations (CFR) and 49 U.S.C. 20502(a), this document provides the public notice that by a document dated July 16, 2013, the Commuter Rail Division of the Regional Transportation Authority (Metra) and its operating company, the Northeast Illinois Regional Commuter Railroad Corporation (NIRCRC), and CSX Transportation, Inc. (CSX) have jointly petitioned the Federal Railroad Administration (FRA) seeking approval for the discontinuance or modification of a signal system. FRA assigned the petition Docket Number FRA-2013-0136.

Applicants:

Northeast Illinois Regional Commuter Railroad Corporation, Mr. Justin Vonaskek, Director, Regulatory Compliance, 547 West Jackson Boulevard, Chicago, IL 60661

CSX Transportation, Inc., Mr. David B. Olson, Chief Engineer Communication and Signals, 500 Water Street, Speed Code J-350, Jacksonville, FL 32202

Metra and CSX seek joint approval of the proposed discontinuance and removal of the power derail Number 8, on Metra's MT track, at Milepost (MP) 10.0, Southwest Subdistrict, at Chicago, IL. The location is referred to as Forest Hill Interlocking by Metra and as the 75th Street Interlocking by CSX.

The reason given for the proposed changes by Metra and CSX is to improve fluidity through the interlocking. The interlocking is controlled by CSX. The Metra dispatcher must communicate with the CSX Blue Island dispatcher, advising route and direction prior to arranging movement through the interlocking.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2013-30539 Filed 12-23-13; 8:45 am]

BILLING CODE 4910-06-P